FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012034-004.

Title: Hamburg Sud/Maersk Line Vessel Sharing Agreement.

Parties: Hamburg-Sud and A.P. Moeller-Maersk A/S.

Filing Party: Wayne Rohde, Esq.; Cozen O'Connor; 1627 I Street NW.; Suite 1100; Washington, DC 20006.

Synopsis: The amendment revises the operational capacity of the vessels deployed under the Agreement and the space allocations of the parties accordingly. Parties requested expedited review.

Agreement No.: 201165-002.

Title: Marine Terminal Lease and Operating Agreement.

Parties: Broward County and Dole Fresh Fruit Company.

Filing Party: Candace J. McCann; Broward County Board of County Commissioners; Office of the County Attorney; 1850 Eller Drive, Suite 502; Fort Lauderdale, FL 33316.

Synopsis: The Amendment revises the defined premises, adjusts related rentals, and clarifies payment obligations.

By Order of the Federal Maritime Commission.
Dated: October 28, 2011.
Karen V. Gregory,
Secretary.

[FR Doc. 2011-28417 Filed 11-2-11; 8:45 am]

BILLING CODE 6730-01-P